DEPARTMENT OF HEALTH AND HUMAN SERVICES

Centers for Disease Control and Prevention

[30-Day-19-18JC]

Agency Forms Undergoing Paperwork Reduction Act Review

In accordance with the Paperwork Reduction Act of 1995, the Centers for Disease Control and Prevention (CDC) has submitted the information collection request titled “Women's Health Needs Study: The Health of U.S.-Resident Women from Countries with Prevalent Female Genital Mutilation/Cutting (FGM/C)” to the Office of Management and Budget (OMB) for review and approval. CDC previously published a “Proposed Data Collection Submitted for Public Comment and Recommendations” notice on March 20, 2018 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Women's Health Needs Study: The Health of U.S.-Resident Women from Countries with Prevalent Female Genital Mutilation/Cutting (FGM/C)—New—National Center for Chronic Disease Prevention and Health Promotion (NCCDPHP), Centers for Disease Control and Prevention (CDC).

Background and Brief Description

Female Genital Mutilation/Cutting (FGM/C) is a practice common in many countries; in parts of Asia, Africa and the Middle East that can have severe, deleterious health consequences for women and girls. Recent studies suggest that more than 500,000 women and girls in the United States may have been cut or be at risk for FGM/C based on whether women or their mothers are from countries with high prevalence of FGM/C. However, this estimate was derived using indirect techniques that do not account for the differing characteristics of women in the country of origin versus those who have migrated to the United States, or any other factors that are likely to affect the prevalence of FGM/C. Additional major knowledge gaps regarding FGM/C in the United States include: The prevalence of FGM/C in selected communities in the United States with high concentrations of residents from countries where FGM/C is prevalent; women's attitudes about continuance of the practice; and the health characteristics and needs of women living in the United States who have experienced FGM/C or are at risk for FGM/C.

This study aims to capture information on women's history of FGM/C, their experiences with health care services, and their attitudes about continuation of the FGM/C practice. Findings from this study will be used to identify public health needs of women and communities in the United States that are affected by FGM/C, to formulate public health strategies to meet identified needs, and to inform prevention efforts.

The proposed information collection will include piloting and conducting a full-scale survey of the health experiences and needs of women who live in selected communities in the United States with high concentrations of residents from countries where FGM/C is widely practiced. The pilot study will be conducted during the first year of this project and will be used to assess the feasibility of sampling and recruiting methods for a hard-to-reach population on a sensitive topic. Based on findings from the pilot, a change request, including necessary translations, will be submitted to conduct the full study during the second and third year of this project. The full study is planned to be implemented in up to five community sites in the United States. The estimated annualized burden over the three years of this project is 356 hours. There are no costs to respondents other than their time to participate.

Estimated Annualized Burden Hours
Type of respondent | Form name | Total number of respondents | Number of responses per respondents | Time per response (hours)
Women age 18 to 49 who were born in, or whose mother was born in, an FGM/C practicing country | WHNS Eligibility Screener | 667 | 1 | 5/60
Women age 18-49 who were born in, or whose mother was born in, an FGM/C practicing country | WHNS Questionnaire | 400 | 1 | 45/60

Jeffrey M. Zirger,
Acting Lead, Information Collection Review Office, Office of Scientific Integrity, Office of Science, Centers for Disease Control and Prevention.

[FR Doc. 2019-01325 Filed 2-6-19; 8:45 am]

BILLING CODE 4163-18-P